DEPARTMENT OF AGRICULTURE

Forest Service

Forest Service Handbook 2409.12, Timber Cruising, Chapters 30, 40, 60, and 70, and Forest Service Handbook 2409.15, Timber Sale Administration, Chapters 20, 40, and 60

AGENCY: Forest Service, Agriculture (USDA).

ACTION: Notice of availability for public comment.

SUMMARY: The Forest Service, United States Department of Agriculture, is revising its directives related to timber appraisal and renewable resources.

DATES: Comments must be received in writing by October 3, 2022.

ADDRESSES: Comments may be submitted electronically to https://cara.fs2c.usda.gov/Public/CommentInput?project=ORMS-3241. Written comments may be mailed to Michael Van Dyck, Forest Management Service Center, 2150 Centre Avenue Building A, Fort Collins, CO 80526. All timely received comments, including names and addresses, will be placed in the record and will be available for public inspection and copying. The public may inspect comments received at https://cara.fs2c.usda.gov/Public/ReadingRoom?project=ORMS-3241.

FOR FURTHER INFORMATION CONTACT: Michael Van Dyck, Forest Management Service Center, at 970-295-5774 or by electronic mail to michael.vandyck@usda.gov. Individuals who use telecommunications devices for the deaf or hard of hearing (TDD) may call the Federal Relay Service (FRS) at 800-877-8339 24 hours a day, every day of the year, including holidays.

SUPPLEMENTARY INFORMATION: The proposed directives reorganize and eliminate redundant policies and procedures, delete obsolete references and update agency policies and procedures to reflect new authorities and more closely align with current and future forest restoration needs. An analysis of existing agency policy in Forest Service Handbooks and Manuals was conducted to identify revisions needed to support this initiative.

The proposed directives update Forest Service Handbook 2409.12, “Timber Cruising,” Chapters 30, 40, 60, and 70, and Forest Service Handbook 2409.15, “Timber Sale Administration,” Chapters 20, 40, and 60. These directives set forth policy, responsibilities, and direction for several aspects of management and move the agency closer to its goal of providing more current direction.

The Forest Service has determined that the changes to the manual and handbook formulate standards, criteria, or guidelines applicable to a Forest Service program and it is therefore publishing the proposed directives for public comment in accordance with 36 CFR part 216. The Forest Service is seeking public comment on the proposed directives, including the sufficiency of the proposed directives in meeting the stated objectives, ways to enhance the utility and clarity of information within the direction, or ways to streamline processes outlined.

Forest Service National Environmental Policy Act (NEPA) procedures exclude from documentation in an environmental assessment or impact statement “rules, regulations, or policies to establish service-wide administrative procedures, program processes, or instructions” (36 CFR 220.6(d)(2)). The Agency's conclusion is that these proposed directives fall within this category of actions and that no extraordinary circumstances exist as currently defined that require preparation of an environmental assessment or an environmental impact statement.

After the public comment period closes, the Forest Service will consider timely comments that are within the scope of the proposed directive in the development of the final directive. A notice of the final directive, including a response to timely comments, will be posted on the Forest Service's web page at https://www.fs.fed.us/about-agency/regulations-policies/comment-on-directives.

Dated: July 27, 2022.
Tina Johna Terrell,
Associate Deputy Chief, National Forest System.

[FR Doc. 2022-16726 Filed 8-3-22; 8:45 am]

BILLING CODE 3411-15-P